DEPARTMENT OF COMMERCE

National Oceanic and Atmospheric Administration

Draft Framework for Developing the National System of Marine Protected Areas

AGENCY: National Ocean Service, NOAA, Department of Commerce.

ACTION: Extension of Public Comment Period on the Draft Framework for Developing the National System of Marine Protected Areas.

SUMMARY: The Department of Commerce published a notice in the Federal Register on September 22, 2006 (71 FR 55432) announcing a 145-day public comment period on the Draft Framework for Developing the National System of Marine Protected Areas (Draft Framework). Copies of the Draft Framework can be requested via the contact information below or downloaded from http://www.mpa.gov. The deadline for public comment on the draft Framework is hereby extended.

DATES: The extended deadline for public comment on the draft Framework is 11:59 p.m. Eastern Time on February 28, 2007.

ADDRESSES: Comments should be sent to Joseph Uravitch, National Oceanic and Atmospheric Administration, National Marine Protected Areas Center, 1305 East West Highway, N/ORM, Silver Spring, MD 20910. Fax: (301) 713-3110. E-mail: mpa.comments@noaa.gov. Comments will be accepted in written form by mail, e-mail, or fax.

FOR FURTHER INFORMATION CONTACT: Refer to the Federal Register notice of September 22, 2006, or contact Jonathan Kelsey at (301) 563-1130, or via e-mail at mpa.comments@noaa.gov.

Dated: January 31, 2007.
David M. Kennedy,
Director, Office of Ocean and Coastal Resource Management.

[FR Doc. E7-1896 Filed 2-5-07; 8:45 am]

BILLING CODE 3510-08-P